FEDERAL COMMUNICATIONS COMMISSION

47 CFR Part 73

[DA 02-737; MB Docket No. 02-72, RM-10400; MB Docket No. 02-73, RM-10401; MB Docket No. 02-74]

Radio Broadcasting Services; Nantucket, MA; Cameron, AZ; Ferrysburg, MI

AGENCY: Federal Communications Commission.

ACTION: Proposed rule.

SUMMARY: This document proposes three allotments in Nantucket, MA, Cameron, AZ, and Ferrysburg, MI. The Commission requests comment on a petition filed by John Garabedian proposing the allotment of Channel 254B1 at Nantucket, Massachusetts, as potentially the community's fourth local FM broadcast service commercial FM service. Channel 254B1 can be allotted to Nantucket in compliance with the Commission's minimum distance separation requirements with no site restriction at center city reference coordinates of 41-16-54 North Latitude and 70-06-06 West Longitude. See SUPPLEMENTARY INFORMATION infra.

DATES: Comments must be filed on or before May 20, 2002, and reply comments on or before June 4, 2002.

ADDRESSES: Federal Communications Commission, Washington, DC 20554. In addition to filing comments with the FCC, interested parties should serve the petitioner as follows: John Garabedian, 24 Fairview Drive, Southborough, Massachusetts 01772; Jeffrey A. Smith, Executive Vice President, McCody Broadcasting Group, Inc., 885 Third Avenue, 34th Floor, New York, New York 10022; and Robert J. Buenzle (counsel for Northern Paul Bunyan Radio Company), 12110 Sunset Hills Road—Suite 450, Reston, Virginia 22090.

FOR FURTHER INFORMATION CONTACT: Deborah A. Dupont, Media Bureau (202) 418-7072.

SUPPLEMENTARY INFORMATION: This is a synopsis of the Commission's Notice of Proposed Rule Making, MB Docket Nos 02-72, 02-73, 02-74; adopted March 25, 2002 and released March 29, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by McCody Broadcasting Group, Inc. proposing the allotment of Channel 246A at Cameron, Arizona, as the community's first aural broadcast service. Channel 246A can be allotted to Cameron in compliance with the Commission's minimum distance separation requirements with no site restriction at center city reference coordinates of 35-52-30 North Latitude and 111-24-48 West Longitude.

The Commission further requests comment on a petition filed by Northern Paul Bunyan Radio Company proposing the allotment of Channel 226A at Ferrysburg, Michigan, as the community's first local broadcast service. Channel 226A can be allotted to Ferrysburg in compliance with the Commission's minimum distance separation requirements with a site restriction of 2.7 km (1.7 miles) northeast of Ferrysburg. The coordinates for Channel 226A at Ferrysburg are 43-06-04 North Latitude and 86-11-29 West Longitude. The proposed allotment will require concurrence by Canada because it is located within 320 kilometers (199 miles) of the Canadian border.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334 and 336.

§ 73.202 [Amended]

2. Section 73.202(b), the Table of FM Allotments under Massachusetts, is amended by adding Channel 254B1 at Nantucket.

3. Section 73.202(b), the Table of FM Allotments under Arizona, is amended by adding Cameron, Channel 246A.

4. Section 73.202(b), the Table of FM Allotments under Michigan, is amended by adding Ferrysburg, Channel 226A.

Federal Communications Commission.
John A. Karousos,
Assistant Chief, Audio Division, Office of Broadcast License Policy, Media Bureau.

[FR Doc. 02-8937 Filed 4-11-02; 8:45 am]

BILLING CODE 6712-01-P